DEPARTMENT OF COMMERCE

International Trade Administration

University of Connecticut, et al.; Notice of Consolidated Decision on Applications for Duty-Free Entry of Electron Microscopes: Correction

In notice document 01-30170, appearing on page 63218 in the issue of Wednesday, December 5, 2001, make the following correction:

On page 63218, in the third column, first full paragraph, “Order Date: December 8, 2001.” should read “Order Date: December 8, 2000.”

Gerald A. Zerdy,
Program Manager, Statutory Import Programs Staff.

[FR Doc. 01-31258 Filed 12-18-01; 8:45 am]

BILLING CODE 3510-DS-P